OFFICE OF SCIENCE AND TECHNOLOGY POLICY

Meeting of the President's Council of Advisors on Science and Technology; Workshop on Federal-State Research and Development Cooperation

ACTION: Notice of public meeting.

SUMMARY: This notice sets forth the schedule and summary agenda for a meeting of the President's Council of Advisors on Science and Technology (PCAST), and describes the functions of the Council. Notice of this meeting is required under the Federal Advisory Committee Act.

Dates and Place: June 29, 2004, Cleveland, OH. The meeting will be held in Ballroom C of the Intercontinental Hotel and Conference Center, 9801 Carnegie Avenue, Cleveland, OH 44106.

Type of Meeting: Open. Further details on the agenda will be posted on the PCAST Web site at: http://www.ostp.gov/PCAST/pcast.html.

Proposed Schedule and Agenda: The President's Council of Advisors on Science and Technology is scheduled to meet in open session on Tuesday June 29, 2004, at approximately 8:30 a.m. The PCAST will hold a Workshop on Federal-State Research and Development Cooperation. The Workshop will examine States' roles in the Nation-wide scientific and technological infrastructure with a special emphasis on Federal-State cooperation. It is intended: (1) To develop recommendations to the President on where Federal improvements can be made, and (2) to distill and showcase practical suggestions for all States to improve their pursuit of successful innovation and economic growth.

Speakers will include Federal officials, other States' science and technology representatives, and Ohio higher education and business representatives.

The Workshop will end at approximately 5 p.m. Additional information on the agenda will be posted at the PCAST Web site at: http://www.ostp.gov/PCAST/pcast.html.

Public Comments: There will be time throughout the Workshop for attendees to join in the discussion of the above agenda items. This public comment time is designed for substantive commentary on the Workshop's topics, not for business marketing purposes. Written comments are also welcome at any time prior to or following the meeting. Please notify Stan Sokul, PCAST Executive Director, at (202) 456-6070, or fax your comments to (202) 456-6021.

FOR FURTHER INFORMATION CONTACT: For information regarding time, place and agenda, please call Stan Sokul at (202) 456-6070, prior to 3 p.m. on Friday, June 25, 2004. Information will also be available at the PCAST web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Ann Mazur,
Assistant Director for Budget and Administration, Office of Science and Technology Policy.

[FR Doc. 04-13593 Filed 6-14-04; 8:45 am]

BILLING CODE 3170-01-P